DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NMFS Alaska Region Observer Providers.

OMB Control Number: 0648-0318.

Form Number(s): None.

Type of Request: Regular submission.

Burden Hours: 875.

Number of Respondents: 15.

Average Hours per Response: 30 minutes for industry request for assistance in improving observer data quality issues; 60 hours for new permit application for observer provider; 15 minutes for update to provider information and for observer candidates' college transcripts and disclosure statements; 5 minutes for notification of observer physical examination, observer provider; 7 minutes for projected observer assignment; 7 minutes for briefing registration and for debriefing registration; 12 minutes for certificate of insurance; 15 minutes for copies of contracts; 7 minutes for weekly deployment/logistics reports; 2 hours for reports of problems; and 4 hours for permit appeal.

Needs and Uses: The National Marine Fisheries Service (NMFS) North Pacific Groundfish Observer Program was implemented in early 1990. The observers in this Program collect and disseminate catch, bycatch, and biological data necessary to support in-season monitoring and stock assessment. Alaska Fisheries Science Center in Seattle, Washington provides the operational oversight of the Program, certification training, definition of observer sampling duties and methods, debriefing of observers, and management of the data. Owners of vessels, shoreside processors, or stationary floating processors required to carry observers must arrange for observer services from an observer provider.

Affected Public: Business or other for-profit organizations.

Frequency: Weekly and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: December 5, 2008.
Gwellnar Banks,
Management Analyst, Office of the Chief Information Officer.

[FR Doc. E8-29289 Filed 12-10-08; 8:45 am]

BILLING CODE 3510-22-P